DEPARTMENT OF THE INTERIOR

National Park Service

[NPS-WASO-NAGPRA-10222; 2200-1100-665]

Notice of Inventory Completion: Department of Anthropology Museum at the University of California, Davis, Davis, CA

AGENCY: National Park Service, Interior.

ACTION: Notice.

SUMMARY: The Department of Anthropology Museum at the University of California, Davis, has completed an inventory of human remains, in consultation with the appropriate Indian tribes, and has determined that there is no cultural affiliation between the remains and any present-day tribe. Representatives of any Indian tribe that believes itself to be culturally affiliated with the human remains may contact the Department of Anthropology Museum at the University of California, Davis. Disposition of the human remains to the tribes stated below may occur if no additional requestors come forward.

DATES: Representatives of any Indian tribe that believes it has a cultural affiliation with the human remains should contact the Department of Anthropology Museum at the University of California, Davis at the address below by July 5, 2012.

ADDRESSES: Lisa Deitz, Department of Anthropology Museum at the University of California, Davis, 330 Young Hall, One Shields Avenue, Davis, CA 95616, telephone (530) 752-8280.

SUPPLEMENTARY INFORMATION: Notice is here given in accordance with the Native American Graves Protection and Repatriation Act (NAGPRA), 25 U.S.C. 3003, of the completion of an inventory of human remains in the possession of the Department of Anthropology Museum at the University of California, Davis. The human remains were removed from Lassen County, CA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Department of Anthropology Museum at the University of California, Davis, professional staff in consultation with representatives of the Alturas Indian Rancheria, California; Berry Creek Rancheria of Maidu Indians of California; Big Pine Band of Owens Valley Paiute Shoshone Indians of the Big Pine Reservation, California; Bridgeport Indian Colony of California; Burns Paiute Tribe of the Burns Paiute Indian Colony of Oregon; Cedarville Rancheria, California; Confederated Tribes of the Warm Springs Reservation of Oregon; Enterprise Rancheria of Maidu Indians of California; Fort Bidwell Indian Community of the Fort Bidwell Reservation of California; Fort Independence Indian Community of Paiute Indians of the Fort Independence Reservation, California; Fort McDermitt Paiute and Shoshone Tribes of the Fort McDermitt Indian Reservation, Nevada and Oregon; Greenville Rancheria of Maidu Indians of California; Lovelock Paiute Tribe of the Lovelock Indian Colony, Nevada; Mechoopda Indian Tribe of Chico Rancheria, California; Mooretown Rancheria of Maidu Indians of California; Paiute-Shoshone Indians of the Bishop Community of the Bishop Colony, California; Paiute-Shoshone Indians of the Lone Pine Community of the Lone Pine Reservation, California; Paiute-Shoshone Tribe of the Fallon Reservation and Colony, Nevada; Pit River Tribe, California; Pyramid Lake Paiute Tribe of the Pyramid Lake Reservation, Nevada; Redding Rancheria, California; Reno-Sparks Indian Colony, Nevada; Round Valley Indian Tribes of the Round Valley Reservation, California; Shoshone-Paiute Tribes of the Duck Valley Reservation, Nevada; Summit Lake Paiute Tribe of Nevada; Susanville Indian Rancheria, California; Utu Utu Gwaitu Paiute Tribe of the Benton Paiute Reservation, California; Walker River Paiute Tribe of the Walker River Reservation, Nevada; Washoe Tribe of Nevada and California; and Yerington Paiute Tribe of the Yerington Colony & Campbell Ranch, Nevada.

History and Description of the Remains

In 1961, human remains representing, at minimum, two individuals were removed from Bare Cave (site CA-LAS-989), in Lassen County, CA, by the University of California, Davis, archeological field school. No known individuals were identified. No associated funerary objects are present.

Determinations Made by the Department of Anthropology Museum at the University of California, Davis

Officials of the Department of Anthropology Museum at the University of California, Davis have determined that:

• Based on archeological context, the human remains are Native American.

• Pursuant to 25 U.S.C. 3001(2), a relationship of shared group identity cannot be reasonably traced between the Native American human remains and any present-day Indian tribe.

• According to final judgments of the Indian Claims Commission, the land from which the Native American human remains were removed is the aboriginal land of the Fort McDermitt Paiute and Shoshone Tribes of the Fort McDermitt Indian Reservation, Nevada and Oregon; Paiute-Shoshone Tribe of the Fallon Reservation and Colony, Nevada; Pyramid Lake Paiute Tribe of the Pyramid Lake Reservation, Nevada; Reno-Sparks Indian Colony, Nevada; Walker River Paiute Tribe of the Walker River Reservation, Nevada; and Yerington Paiute Tribe of the Yerington Colony & Campbell Ranch, Nevada.

• Multiple lines of evidence, including treaties, Acts of Congress, and Executive Orders, indicate that the land from which the Native American human remains were removed is the aboriginal land of the Bridgeport Indian Colony of California; Burns Paiute Tribe of the Burns Paiute Indian Colony of Oregon; Cedarville Rancheria, California; Confederated Tribes of the Warm Springs Reservation of Oregon; Fort Bidwell Indian Community of the Fort Bidwell Reservation of California; Fort Independence Indian Community of Paiute Indians of the Fort Independence Reservation, California; Fort McDermitt Paiute and Shoshone Tribes of the Fort McDermitt Indian Reservation, Nevada and Oregon; Lovelock Paiute Tribe of the Lovelock Indian Colony, Nevada; Paiute-Shoshone Tribe of the Fallon Reservation and Colony, Nevada; Pyramid Lake Paiute Tribe of the Pyramid Lake Reservation, Nevada; Reno-Sparks Indian Colony, Nevada; Summit Lake Paiute Tribe of Nevada; Susanville Indian Rancheria, California; Utu Utu Gwaitu Paiute Tribe of the Benton Paiute Reservation, California; Walker River Paiute Tribe of the Walker River Reservation, Nevada; and Yerington Paiute Tribe of the Yerington Colony & Campbell Ranch, Nevada (hereafter referred to as “The Tribes”).

• Other credible lines of evidence indicate that the land from which the Native American human remains were removed is the aboriginal land of The Tribes.

• Pursuant to 25 U.S.C. 3001(9), the human remains described in this notice represent the physical remains of two individuals of Native American ancestry.

• Pursuant to 43 CFR 10.11(c)(1), the disposition of the human remains is to The Tribes.

Additional Requestors and Disposition

Representatives of any Indian tribe that believes itself to be culturally affiliated with the human remains or any other Indian tribe that believes it satisfies the criteria in 43 CFR 10.11(c)(1) should contact Lisa Deitz, Department of Anthropology Museum at the University of California, Davis, 330 Young Hall, One Shields Avenue, Davis, CA 95616, telephone (530) 752-8280, before July 5, 2012. Disposition of the human remains to The Tribes may proceed after that date if no additional requestors come forward.

The Department of Anthropology Museum at the University of California, Davis is responsible for notifying the Alturas Indian Rancheria, California; Berry Creek Rancheria of Maidu Indians of California; Big Pine Band of Owens Valley Paiute Shoshone Indians of the Big Pine Reservation, California; Bridgeport Indian Colony of California; Burns Paiute Tribe of the Burns Paiute Indian Colony of Oregon; Cedarville Rancheria, California; Confederated Tribes of the Warm Springs Reservation of Oregon; Enterprise Rancheria of Maidu Indians of California; Fort Bidwell Indian Community of the Fort Bidwell Reservation of California; Fort Independence Indian Community of Paiute Indians of the Fort Independence Reservation, California; Fort McDermitt Paiute and Shoshone Tribes of the Fort McDermitt Indian Reservation, Nevada and Oregon; Greenville Rancheria of Maidu Indians of California; Lovelock Paiute Tribe of the Lovelock Indian Colony, Nevada; Mechoopda Indian Tribe of Chico Rancheria, California; Mooretown Rancheria of Maidu Indians of California; Paiute-Shoshone Indians of the Bishop Community of the Bishop Colony, California; Paiute-Shoshone Indians of the Lone Pine Community of the Lone Pine Reservation, California; Paiute-Shoshone Tribe of the Fallon Reservation and Colony, Nevada; Pit River Tribe, California; Pyramid Lake Paiute Tribe of the Pyramid Lake Reservation, Nevada; Redding Rancheria, California; Reno-Sparks Indian Colony, Nevada; Round Valley Indian Tribes of the Round Valley Reservation, California; Shoshone-Paiute Tribes of the Duck Valley Reservation, Nevada; Summit Lake Paiute Tribe of Nevada; Susanville Indian Rancheria, California; Utu Utu Gwaitu Paiute Tribe of the Benton Paiute Reservation, California; Walker River Paiute Tribe of the Walker River Reservation, Nevada; Washoe Tribe of Nevada and California; and Yerington Paiute Tribe of the Yerington Colony & Campbell Ranch, Nevada that this notice has been published.

Dated: May 30, 2012.
Sherry Hutt,
Manager, National NAGPRA Program.

[FR Doc. 2012-13456 Filed 6-1-12; 8:45 am]

BILLING CODE 4312-50-P